DEPARTMENT OF DEFENSE

Office of the Secretary

Defense Business Board; Notice of Advisory Committee Meeting

AGENCY: Department of Defense, DoD.

ACTION: Notice of Advisory Committee meeting.

SUMMARY: The Defense Business Board (DBB) will meet in open session on Thursday, December 1, 2005, at the Pentagon, Washington, DC from 9:45 a.m. until 12 p.m. (noon). The mission of the DBB is to advise the Secretary of Defense on effective strategies for implementation of best business practices of interest to the Department of Defense. At this meeting, the Board will deliberate on their findings and recommendations related to: Healthcare for Military Retirees; Military Postal Service; and Business Management Modernization Program (BMMP).

DATES: Thursday, December 1, 2005, 9:45 a.m. to 12 p.m. (noon).

ADDRESSES: 1155 Defense Pentagon, 3C288, Washington, DC 20301-1155.

FOR FURTHER INFORMATION CONTACT: Members of the public who wish to attend the meeting must contact the Defense Business Board no later than Tuesday, November 22nd for further information about escort arrangements in the Pentagon. Additionally, those who wish to make oral comments or deliver written comments should also request to be scheduled, and submit a written text of the comments by Monday, November 21st to allow time for distribution to the Board members prior to the meeting. Individual oral comments will be limited to five minutes, with the total oral comment period not exceeding 30 minutes.

The DBB may be contacted at: Defense Business Board, 1155 Defense Pentagon, Room 3C288, Washington, DC 20301-1155, via e-mail at defensebusinessboard2@osd.mil or via phone at (703) 697-2168.

Dated: November 4, 2005.
L.M. Bynum,
OSD Federal Register Liaison Officer, Department of Defense.

[FR Doc. 05-22410 Filed 11-9-05; 8:45am]

BILLING CODE 5001-06-M